INTERNATIONAL TRADE COMMISSION

[USITC SE-17-061]

Government in the Sunshine Act Meeting Notice

Agency Holding the Meeting: United States International Trade Commission.

Time and Date: January 4, 2018 at 9:30 a.m.

Place: Room 101, 500 E Street SW, Washington, DC 20436, Telephone: (202) 205-2000.

Status: Open to the public.

Matters to be Considered: 1. Agendas for future meetings: None.

2. Minutes.

3. Ratification List.

4. Vote in Inv. Nos. 701-TA-253 and 731-TA-132, 252, 271, 273, 532-534, and 536 (Fourth Review)(Circular Welded Pipe and Tube from Brazil, India, Korea, Mexico, Taiwan, Thailand, and Turkey). The Commission is currently scheduled to complete and file its determinations and views of the Commission by January 18, 2018.

5. Outstanding action jackets: None.

In accordance with Commission policy, subject matter listed above, not disposed of at the scheduled meeting, may be carried over to the agenda of the following meeting.

By order of the Commission:
Issued: December 19, 2017.
William R. Bishop,
Supervisory Hearings and Information Officer.

[FR Doc. 2017-27610 Filed 12-19-17; 4:15 pm]

BILLING CODE 7020-02-P